DEPARTMENT OF JUSTICE

Notice of Lodging of Proposed Settlement Agreement Under the Comprehensive Environmental Response, Compensation and Liability Act (CERCLA)

Notice is hereby given that on March 13, 2009, a proposed Settlement Agreement and Consent Decree regarding the Bunker Hill Mining and Metallurgical Complex Superfund Site, also known as the Coeur d'Alene Basin Site in Idaho, and the Omaha Lead Site in Nebraska was filed with the United States Bankruptcy Court for the Southern District of Texas in In re Asarco LLC, No. 05-21207 (Bankr. S.D. Tex.). The proposed Agreement entered into by the United States on behalf of the Environmental Protection Agency (EPA), Department of Interior (DOI), and Department of Agriculture Forest Service (FS) and Asarco LLC provides, inter alia, that (A) with respect to the Coeur d'Alene Basin Site, (1) the United States on behalf of EPA shall have an allowed general unsecured claim of $41.464 million for past costs and future oversight costs, (2) the Successor Coeur d'Alene Custodial and Work Trust shall have an allowed general unsecured claim of $359.179 million to perform work, (3) the Successor Coeur d'Alene Custodial and Work Trust shall receive certain land currently owned by the Debtors and a $14 million allowed administrative expense claim to perform work on those lands, and (4) the United States on behalf of DOI and FS, as co-Natural Resources Trustees, shall have an allowed general unsecured claim of $67.5 million, and (B) with respect to the Omaha Lead Site, the United States on behalf of EPA shall have an allowed general unsecured claim of $186.5 million.

The Department of Justice will receive comments relating to the proposed Agreement for a period of thirty (30) days from the date of this publication. Comments should be addressed to the Assistant Attorney General, Environment and Natural Resources Division, and either e-mailed to pubcomment-ees.enrd@usdoj.gov or mailed to P.O. Box 7611, U.S. Department of Justice, Washington, D.C. 20044-7611, and should refer to In re Asarco LLC, DJ Ref. No. 90-11-3-08633. Commenters may request an opportunity for a public meeting in the affected area, in accordance with Section 7003(d) of RCRA, 42 U.S.C. 6973(d).

The proposed Agreement may be examined at the Office of the United States Attorney for the Southern District of Texas, 800 North Shoreline Blvd, #500, Corpus Christi, TX 78476-2001, at the office of the Environmental Protection Agency Region 7, 901 North Fifth Street, Kansas City, Kansas 66101, or at the office of the Environmental Protection Agency Region 10, 1200 Sixth Avenue, Seattle, Washington 98101. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.00 (without attachments) or $37.75 (with attachments) (25 cents per page reproduction cost) payable to the U.S. Treasury.

Maureen Katz,
Assistant Section Chief, Environmental Enforcement Section.

[FR Doc. E9-6447 Filed 3-23-09; 8:45 am]

BILLING CODE 4410-15-P